DEPARTMENT OF COMMERCE

International Trade Administration

[A-570-836]

Notice of Final Results of Expedited Sunset Review of the Antidumping Duty Order: Glycine From the People's Republic of China

Correction

In notice document 2011-2883 on page 7150 in the issue of Wednesday, February 9, 2011, make the following correction:

On page 7150, in the third column, in the signature block, “Dated: January 31, 2010” should read “Dated: January 31, 2011”.

[FR Doc. C1-2011-2883 Filed 2-11-11; 8:45 am]

BILLING CODE 1504-01-D